LIBRARY OF CONGRESS

Copyright Office

37 CFR Parts 252, 257, and 259

[Docket No. RM 2005-7 CARP]

Filing of Claims for Cable, Satellite and DART Royalties

AGENCY: Copyright Office, Library of Congress.

ACTION: Technical amendment.

SUMMARY: The Copyright Office of the Library of Congress is removing its regulations governing the filing of claims to cable, satellite, and DART royalty funds. These claims now are to be filed with the Copyright Royalty Judges pursuant to the Copyright Royalty and Distribution Reform Act of 2004, which became effective on May 31, 2005.

EFFECTIVE DATE: July 1, 2005.

FOR FURTHER INFORMATION CONTACT: David O. Carson, General Counsel, or Gina Giuffreda, Attorney-Advisor, Copyright Arbitration Royalty Panel (CARP), P.O. Box 70977, Southwest Station, Washington, DC 20024. Telephone: (202) 707-8380. Telefax: (202) 252-3423.

SUPPLEMENTARY INFORMATION: On November 30, 2004, the President signed into law the Copyright Royalty and Distribution Reform Act of 2004 (“CRDRA”), Pub. L. No. 108-419, 118 Stat. 2341. This Act, which became effective on May 31, 2005, amends the Copyright Act, title 17 of the United States Code, by phasing out the Copyright Royalty Arbitration Panel (“CARP”) system and replacing it with three permanent Copyright Royalty Judges (“CRJs”). Consequently, the CRJs will carry out functions heretofore performed by the CARPs-namely, conducting proceedings to adjust rates paid under certain statutory licenses and to distribute royalties collected under sections 111, 119, and chapter 10, as well as taking in and processing claims to those royalty fees. 17 U.S.C. 801.

On May 31, 2005, the Copyright Royalty Board (“CRB”), the institutional entity within the Library of Congress that houses the CRJs, published procedural regulations which govern, in pertinent part, the filing of claims. See 70 FR 30901 (May 31, 2005). Therefore, since jurisdiction over the claims to royalty fees collected under sections 111, 119, and chapter 10, now lies with the CRJs, the corresponding CARP regulations are no longer needed and therefore are being removed.

Authority

In consideration of the foregoing and pursuant to 17 U.S.C. 702, the Copyright Office amends chapter II of title 37 of the Code of Federal Regulations by removing parts 252, 257, and 259.

Dated: June 27, 2005.
Marybeth Peters,
Register of Copyrights.

[FR Doc. 05-12948 Filed 6-30-05; 8:45 am]

BILLING CODE 1410-33-S